DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by June 10, 2004.

Title, Form, and OMB Number: Defense Federal Acquisition Regulation Supplement Part 230, Cost Accounting Standards Administration; DD Form 1861; OMB Number 0704-0267.

Type of Request: Extension.

Number of Respondents: 15,000.

Responses per Respondent: 3 (approximate).

Annual Responses: 45,138.

Average Burden per Response: 10 hours.

Annual Burden Hours: 451,380.

Needs and Uses: A DD Form 1861 is normally completed for each proposal for a contract for supplies or services that is priced and negotiated on the basis of cost analysis, and for each indirect cost rate negotiation. Contracting officers use DD Form 1861 in computing profit objectives for negotiated contracts. The form enables contracting officers to differentiate profit objectives for various types of contractor assets—land, buildings, and equipment.

Affected Public: Business or Other For Profit; Not-For-Profit Institutions.

Frequency: On Occasion.

Respondents's Obligation: Required to Obtain or Retain Benefits.

OMB Desk Officer: Ms. Jacqueline Zeiher.

Written comments and recommendations on the proposed information collection should be sent to Ms. Zeiher at the Office of Management and Budget, Desk Officer for DoD, Room 10236, New Executive Office Building, Washington, DC 20503.

DoD Clearance Officer: Mr. Robert Cushing.

Written requests for copies of the information collection proposal should be sent to Mr. Cushing, WHS/ESCD/Information Management Division, 1225 Jefferson Davis Highway, Suite 504, Arlington, VA 22202-4326.

Dated: May 5, 2004.
L.M. Bynum,
Alternate OSD Federal Register Liaison Officer, Department of Defense.

[FR Doc. 04-10587 Filed 5-10-04; 8:45 am]

BILLING CODE 5001-06-M